DEPARTMENT OF THE INTERIOR

Bureau of Indian Affairs

Draft Environmental Impact Statement for the Proposed Spokane Tribe of Indians West Plains Casino and Mixed Use Project, City of Airway Heights, Spokane County, WA

AGENCY: Bureau of Indian Affairs, Interior.

ACTION: Notice of reopening of comment period.

SUMMARY: The Bureau of Indian Affairs (BIA) is reopening the comment period for the Draft Environmental Impact Statement (DEIS) for the Spokane Tribe of Indians West Plains casino and mixed use project, City of Airway Heights, Spokane County, Washington.

DATES: Comments on the DEIS are due on May 16, 2012.

FOR FURTHER INFORMATION CONTACT: Dr. B.J. Howerton at (503) 231-6749.

SUPPLEMENTARY INFORMATION: The BIA published the original Notice of Availability for the DEIS in the Federal Register on March 2, 2012 (77 FR 12873) and provided for the comment period to end on April 16, 2012. The BIA is re-opening the comment period to end on May 16, 2012.

Please refer to the March 2, 2012 Notice of Availability (77 FR 12873) for project details and instructions for submitting comments. The BIA will consider all previously submitted comments, as well as any additional comments.

The DEIS remains available for review at the Airway Heights Branch of the Spokane County Library District located at 1213 South Lundstrom St. Airway Heights, Washington 99001 and the Spokane Public Library located at 906 West Main Street, Spokane, Washington 99201. The DEIS is also available online at: http://www.westplainseis.com.

Dated: April 20, 2012.
Donald E. Laverdure,
Principal Deputy Assistant Secretary—Indian Affairs.

[FR Doc. 2012-10095 Filed 4-25-12; 8:45 am]

BILLING CODE 4310-W7-P